DEPARTMENT OF TRANSPORTATION

Federal Aviation Administration

14 CFR Part 39

[Docket No. FAA-2025-0916; Project Identifier MCAI-2024-00119-R; Amendment 39-23200; AD 2025-24-05]

RIN 2120-AA64

Airworthiness Directives; Airbus Helicopters

AGENCY: Federal Aviation Administration (FAA), DOT.

ACTION: Final rule.

SUMMARY: The FAA is superseding Airworthiness Directive (AD) 2024-10-13, which applied to all Airbus Helicopters Model AS332C, AS332C1, AS332L, AS 332L1, AS 332L2, and EC 225LP helicopters. AD 2024-10-13 required visually inspecting the bowls of the left-hand (LH) and right-hand (RH) fuel filters for any cracks and seepage. Depending on the inspection results, AD 2024-10-13 required removing an affected fuel filter from service and replacing that part. AD 2024-10-13 also allowed a certain fuel filter to be installed on any helicopter if certain actions are accomplished. Since the FAA issued AD 2024-10-13, additional inspection criteria were developed. This AD requires the same actions as AD 2024-10-13 but removes some helicopters from the applicability, adds an inspection of the inner surface of the fuel filter bowls, and revises the tightening torque. The FAA is issuing this AD to address the unsafe condition on these products.

DATES: This AD is effective January 12, 2026.

The Director of the Federal Register approved the incorporation by reference of a certain publications listed in this AD as of January 12, 2026.

ADDRESSES:

AD Docket: You may examine the AD docket at regulations.gov under Docket No. FAA-2025-0916; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0916.

FOR FURTHER INFORMATION CONTACT: Deep Gaurav, Aviation Safety Engineer, FAA, 1600 Stewart Avenue, Suite 410, Westbury, NY 11590; phone: (817) 228-3731; email: deep.gaurav@faa.gov.

SUPPLEMENTARY INFORMATION:

Background

The FAA issued a notice of proposed rulemaking (NPRM) to amend 14 CFR part 39 to supersede AD 2024-10-13, Amendment 39-22759 (89 FR 56189, July 9, 2024) (AD 2024-10-13). AD 2024-10-13 applied to all Airbus Helicopters Model AS332C, AS332C1, AS332L, AS 332L1, AS 332L2, and EC 225LP helicopters. The FAA issued AD 2024-10-13 to prevent failure of the bowl, in-flight shutdown, and subsequent reduced control of the helicopter.

The NPRM was published in the Federal Register on June 2, 2025 (90 FR 23300). The NPRM was prompted by European Union Aviation Safety Agency (EASA) AD 2024-0045, dated February 16, 2024 (EASA AD 2024-0045) (also referred to as the MCAI), issued by EASA, which is the Technical Agent for the Member States of the European Union. The MCAI states new cases of fuel filter cracks were reported on helicopters that had been inspected as required by a previously issued EASA AD. The new cracks were located on the inner surface of the fuel filter bowls and likely resulted from excessive bowl tightening torque. The MCAI further states, following an investigation, Airbus Helicopters expanded the scope of the inspection of the fuel filters to include the inner surface of the bowls and revised the tightening torque.

In the NPRM, the FAA proposed to require the same actions as AD 2024-10-13, and also proposed to remove some helicopters from the applicability, add an inspection of the inner surface of the fuel filter bowls, and revise the tightening torque.

The FAA is issuing this AD to inspect for cracks and seepage on the bowl of the LH and RH fuel filter, which if not addressed, could result in failure of the fuel filter bowl, in-flight shutdown of both engines, and consequent reduced control of the helicopter.

You may examine the MCAI in the AD docket at regulations.gov under Docket No. FAA-2025-0916.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0045, which specifies procedures for a one-time inspection of the outer and inner surfaces of the bowls of the LH and RH fuel filters for cracks and seepage. Depending on the inspection results, EASA AD 2024-0045 specifies procedures for replacing an affected part with a serviceable part. EASA AD 2024-0045 allows credit for the inspection of certain helicopters and also allows certain fuel filters to be installed on a helicopter if they have been inspected and no defects found.

This material is reasonably available because the interested parties have access to it through their normal course of business or by the means identified in the ADDRESSES section.

Differences Between This AD and the MCAI

Where the MCAI applies to helicopters delivered before February 15, 2024, this AD applies to helicopters with fuel filter part number 4020P25-5 or 704A44620049 installed and with an original airworthiness certificate or original export certificate of airworthiness issued before February 15, 2024.

Costs of Compliance

The FAA estimates that this AD affects 20 helicopters of U.S. registry. Labor rates are estimated at $85 per hour. Based on these numbers, the FAA estimates the following costs to comply with this AD.

Inspecting the fuel filter bowls (two bowls per helicopter) for cracks and seepage will take 2 work-hours. No parts are required for an estimated cost of $170 per helicopter and $3,400 for the U.S. fleet.

Replacing a fuel filter will take 2 work-hours, and parts cost $6,290 for an estimated cost of $6,460 per fuel filter replacement.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2024-10-13, Amendment 39-22759 (89 FR 56189, July 9, 2024); and

b. Adding the following new airworthiness directive:

2025-24-05 Amendment 39-23200; Docket No. FAA-2025-0916; Project Identifier MCAI-2024-00119-R.

(a) Effective Date

This airworthiness directive (AD) is effective January 12, 2026.

(b) Affected ADs

This AD replaces AD 2024-10-13, Amendment 39-22759 (89 FR 56189, July 9, 2024).

(c) Applicability

This AD applies to Airbus Helicopters Model AS332C, AS332C1, AS332L, AS 332L1, AS 332L2, and EC 225LP helicopters, certificated in any category, with fuel filter part number 4020P25-5 or 704A44620049 installed and with an original airworthiness certificate or original export certificate of airworthiness issued before February 15, 2024.

(d) Subject

Joint Aircraft System Component (JASC) Code 2821, Aircraft fuel filter/strainer.

(e) Unsafe Condition

This AD was prompted by reports of cracks on the fuel filter bowl (bowl) due to over-torquing. The FAA is issuing this AD to inspect for cracks and seepage on the bowl of the left-hand (LH) and right-hand (RH) fuel filter. The unsafe condition, if not addressed, could result in failure of the fuel filter bowl, in-flight shutdown of both engines, and consequent reduced control of the helicopter.

(f) Compliance

Comply with this AD within the compliance times specified, unless already done.

(g) Requirements

Except as specified in paragraphs (h) and (i) of this AD: Comply with all required actions and compliance times specified in, and in accordance with, European Union Aviation Safety Agency (EASA) AD 2024-0045, dated February 16, 2024 (EASA AD 2024-0045).

(h) Exceptions to EASA AD 2024-0045

(1) Where EASA AD 2024-0045 requires compliance in terms of flight hours, this AD requires using hours time-in-service.

(2) Where EASA AD 2024-0045 refers to its effective date, this AD requires using the effective date of this AD.

(3) Where paragraph (2) of EASA AD 2024-0045 states “any discrepancy, as defined in the ASB”, for this AD replace that text with “any crack or seepage”.

(4) Where paragraph (2) of EASA AD 2024-0045 specifies “replace the affected part with a serviceable part in accordance with the instructions of the applicable ASB”, this AD requires replacing that text with “remove the affected part from service and replace it with a serviceable part”.

(5) Where the material referenced in EASA AD 2024-0045 uses the term “check”, this AD requires replacing that term with “inspection”.

(6) Where the material referenced in EASA AD 2024-0045 specifies discarding parts, this AD requires removing those parts from service.

(7) Where the material referenced in EASA AD 2024-0045 specifies actions for non-installed equipment or parts, this AD does not require those actions.

(8) This AD does not adopt the “Remarks” section of EASA AD 2024-0045.

(i) No Reporting or Returning Parts Requirement

Although the material referenced in EASA AD 2024-0045 specifies to submit certain information and return parts to the manufacturer, this AD does not require those actions.

(j) Special Flight Permits

Special flight permits are prohibited.

(k) Alternative Methods of Compliance (AMOCs):

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD and email to: AMOC@faa.gov.

(2) Before using any approved AMOC, notify your appropriate principal inspector, or lacking a principal inspector, the manager of the responsible Flight Standards Office.

(l) Additional Information

For more information about this AD, contact Deep Gaurav, Aviation Safety Engineer, FAA, 1600 Stewart Avenue, Suite 410, Westbury, NY 11590; phone: (817) 228-3731; email: deep.gaurav@faa.gov.

(m) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0045, dated February 16, 2024.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at the FAA Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 2, 2025.
Steven W. Thompson,
Acting Deputy Director, Compliance & Airworthiness Division, Aircraft Certification Service.

[FR Doc. 2025-22250 Filed 12-5-25; 8:45 am]

BILLING CODE 4910-13-P